DEPARTMENT OF COMMERCE

National Oceanic and Atmospheric Administration

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), formerly known as Law Enforcement Advisory Panel (LEAP), in conjunction with the Gulf States Marine Fisheries Commission's Law Enforcement Committee (LEC).

DATES: The meeting will convene on Wednesday, March 16, 2016; starting 8:30 a.m. and will adjourn at 5 p.m.

ADDRESSES: The meeting will be held at the Holiday Inn San Antonio Riverwalk hotel, located at 217 North St. Mary's Street, San Antonio, TX 78205; telephone: (210) 224-2500.

Council address: Gulf of Mexico Fishery Management Council, 2203 N. Lois Avenue, Suite 1100, Tampa, FL 33607; telephone: (813) 348-1630.

FOR FURTHER INFORMATION CONTACT: Mr. Steven Atran, Senior Fishery Biologist, Gulf of Mexico Fishery Management Council; steven.atran@gulfcouncil.org, telephone: (813) 348-1630, and Mr. Steve Vanderkooy, Inter-jurisdictional Fisheries Coordinator, Gulf States Marine Fisheries Commission; svanderkooy@gsmfc.org, telephone: (228) 875-5912.

SUPPLEMENTARY INFORMATION: The items of discussion on the agenda are as follows:

Joint Gulf Council's Law Enforcement Technical Committee and Gulf States Marine Fisheries Commission's Law Enforcement Committee Meeting Agenda, Wednesday, March 16, 2016, 8:30 a.m. until 5 p.m.

1. Adoption of Agenda

2. Approval of Minutes Actions

a. November 4, 2015 Joint ASMFC LEC/GSMFC LEC meeting

b. December 4, 2015 LETC webinar

3. Enforcement Implications of Louisiana, Mississippi, Alabama 9-mile Reef Fish Boundary

4. Enforcement Implications of Offshore Aquaculture FMP

5. Protocol for Background Checks of AP Candidates for Violations in State Waters

6. Draft Reef Fish Amendment 36A—Red Snapper IFQ Modifications

7. Draft Reef Fish Amendment 43—Hogfish Stock Definition, Status Determination Criteria, and Annual Catch Limit

8. Framework Action Addressing Circle Hook Requirement When Fishing for Yellowtail Snapper

9. Draft Shrimp Amendment 17B—Optimum Yield, Number of Permits, Permit Pool, and Transit Provisions

10. Review of Coral Habitats of Particular Concern Proposals

11. Draft Coastal Migratory Pelagics Amendment 26—Reallocation of King Mackerel

12. Selection of Candidates for Officer of the Year Award

13. Interjurisdictional Program Activity

a. Tripletail

b. Atlantic Croaker

14. Schedule of GSMFC Publications

a. Officer's Pocket Guide

b. Law Summary

c. Licenses and Fees

d. Strategic Plan 2017-20

e. Operations Plan 2017-20

15. State Report Highlights

a. Florida

b. Alabama

c. Mississippi

d. Louisiana

e. Texas

f. U.S. Coast Guard

g. NOAA Office of Law Enforcement

h. U.S. Fish and Wildlife Service

16. Other Business

—Meeting Adjourns—

The Agenda is subject to change. The latest version of the agenda along with other meeting materials will be posted on the Council's file server, which can be accessed by going to the Council Web site at http://www.gulfcouncil.org and clicking on File Server under Quick Links. For meeting materials see folder “LEAP Meeting—2016-03” on Gulf Council file server. The username and password are both “gulfguest”.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: February 24, 2016.
Jeffrey N. Lonergan,
Acting Deputy Director, Office of Sustainable Fisheries, National Marine Fisheries Service.

[FR Doc. 2016-04316 Filed 2-26-16; 8:45 am]

BILLING CODE 3510-22-P